DEPARTMENT OF THE INTERIOR

National Park Service

Cape Cod National Seashore; Two Hundred Fifty-Fifth Notice of Meeting; Correction

AGENCY: National Park Service, Interior.

ACTION: Notice; correction.

SUMMARY: The National Park Service published a document in the Federal Register of October 5, 2005 concerning the Two Hundred Fifty-Fifth Notice of Meeting of the Cape Cod National Seashore Advisory Commission. The document contained an incorrect date.

FOR FURTHER INFORMATION CONTACT: George E. Price, Jr., 508-349-3785 x 202.

Correction

In the Federal Register of October 5, 2005, in FR Doc. 05-19961, on page 58239, in the second paragraph, correct the paragraph to read:

Notice is hereby given in accordance with the Federal Advisory Committee Act (Pub. L. 92-463, 86 Stat. 770, 5 U.S.C. App 1, Section 10), that a meeting of the Cape Cod National Seashore Advisory Commission will be held on December 12, 2005.

Dated: October 17, 2005.
George E. Price, Jr.,
Superintendent.

[FR Doc. 05-21224 Filed 10-24-05; 8:45 am]

BILLING CODE 4312-51-P